DEPARTMENT OF COMMERCE

International Trade Administration

Sponsoring “Sustainability and U.S. Competitiveness Summit” for U.S. Stakeholders; Request for Comments and Interest in Attendance

ACTION: Notice and request for comments and interest in attendance.

SUMMARY: The International Trade Administration's Manufacturing and Services unit will sponsor a “Sustainability and U.S. Competitiveness Summit” on October 8, 2009 at the U.S. Department of Commerce. The Summit will be aimed at enhancing public-private interaction in the field of sustainable manufacturing and other related business practices. This notice (1) seeks input from individual U.S. stakeholders on areas of interest for discussion at the proposed “Summit” and (2) solicits requests to participate in the Summit from U.S. stakeholders.

DATES: Submit comments and requests to participate no later than 30 days after the date of this notice.

ADDRESSES: Address all comments concerning this notice and requests to participate to Bill McElnea, U.S. Department of Commerce, Room 2213, 1401 Constitution Ave., NW., Washington, DC 20230 (or via the Internet at susmanuf@mail.doc.gov).

FOR FURTHER INFORMATION CONTACT: Bill McElnea, 202-482-2831.

SUPPLEMENTARY INFORMATION: The “Sustainability and U.S. Competitiveness Summit” is sponsored by the Department of Commerce's Sustainable Manufacturing Initiative (SMI). Commerce's SMI is dedicated to supporting and promoting sustainable manufacturing practices, across all industry sectors, in the United States. The groundwork for the SMI was developed at an initial stakeholders' event in September 2007 on sustainable manufacturing sponsored by Commerce's Manufacturing and Services (MAS) unit. That event focused on two primary questions which remain central to the SMI mission: (1) What are U.S. industry's most pressing sustainable manufacturing-related challenges? and (2) how can the public and private sectors best work together to address these challenges? MAS considered the individual stakeholder input received at that event in the formulation of the SMI's four major project areas: (1) Creating a Subgroup on Sustainable Manufacturing as part of the Interagency Working Group on Manufacturing Competitiveness; (2) developing a comprehensive clearinghouse of USG programs and resources that support sustainable business practices; (3) conducting a series of regional facility tours of sustainable manufacturing leaders across the U.S. (formerly referred to as Sustainable Manufacturing American Regional Tours or SMARTs) and; (4) leading an effort with the Organization for Economic Cooperation and Development to establish sector-specific sustainable manufacturing metrics. For more information about the SMI and its projects, please see: www.manufacturing.gov/sustainability.

The “Sustainability and U.S. Competitiveness Summit” is being designed with two main objectives in mind: (1) Reporting back to stakeholders on SMI projects completed since the September 2007 event, and (2) obtaining a second round of feedback from individual U.S. stakeholders regarding the present utility of the SMI and how it might evolve to meet the current and future needs of the U.S. manufacturing sector and broader business community.

Regarding the second objective of the Summit, topic areas that could be discussed include, but are not limited to: “Green supply chain” challenges, regulatory compliance, the future nexus between U.S. competitiveness and environmental stewardship, how the SMI can support U.S. service providers in their sustainability efforts or incorporate their challenges and needs under the SMI mandate, and identifying U.S. regions where Commerce could conduct future regional facility tours similar to those held in 2008 and the Sustainability 360 event to be held July 13, 2009 in Seattle, Washington.

In preparation for the proposed event, MAS is requesting feedback from individual U.S. stakeholders on the following:

• SMI policies and projects that have worked well and that should be continued;

• Topic areas of interest to U.S. businesses with regard to sustainable manufacturing or other sustainable business issues which the SMI has not yet addressed.

Due to logistical constraints, the Summit will be limited to approximately eighty to eighty-five non-government participants. MAS's goal is that the Summit will present a diverse group of attendees in terms of affiliation, size, geographical base, and particular manufacturing sector. MAS encourages the participation of representatives of trade associations, U.S. businesses, academia, and other relevant U.S. entities that have a strategic interest in sustainable manufacturing as it relates to U.S. industry competitiveness. MAS will consider whether or not the requesting individual is from an association, organization or institution that maintains a substantial U.S. manufacturer member base and is well positioned to represent the views of small, medium and large size U.S. manufacturers in specific industry sectors. Finally, MAS invites the participation of members of the Secretary of Commerce's Manufacturing Council and individuals who participated in or attended a regional facility tour in 2008 or a Sustainability 360 event in 2009.

Persons who express an interest in attending the Summit may, if they wish, provide information on their business or organization and why they believe they could make a useful contribution to this event. MAS's decisions may also be based, in part, on publicly available information about the applicants.

Dated: July 8, 2009.
Bill McElnea,
International Economist, Office of Trade Policy Analysis, Certifying Officer, International Trade Administration, Department of Commerce.

[FR Doc. E9-16592 Filed 7-13-09; 8:45 am]

BILLING CODE 3510-DR-P